DEPARTMENT OF ENERGY

Notice of Request for Information (RFI) on Offshore Wind Transmission System Integration Research Needs

AGENCY: Office of Energy Efficiency and Renewable Energy, Department of Energy (DOE).

ACTION: Request for information.

SUMMARY: The U.S. Department of Energy (DOE) invites public comment on its Request for Information (RFI) number DE-FOA-0002389 regarding offshore wind transmission system integration research needs. The DOE's Wind Energy Technologies Office (WETO) is seeking information from the public on research needs regarding the integration of large-scale offshore wind energy generation into the transmission grid. In addition to input on overall research priorities, focus areas include considerations of technical means to enhance transmission utilization and mitigate congestion; updates to system integration studies and analyses in view of anticipated offshore wind additions; and priorities for improvements to data, models, and analytical tools. This RFI is intended to inform WETO's strategic planning on research aimed at lowering the cost of integrating offshore wind power into the grid, while enhancing system reliability and resiliency.

DATES: Responses to the RFI must be received no later than 5:00pm (ET) on January 24, 2021.

ADDRESSES: Interested parties are to submit comments electronically to WindEnergyRFI@ee.doe.gov. Include WETO OSW Integration RFI in the subject line of the email. Responses must be provided as attachments to an email. It is recommended that attachments with file sizes exceeding 25MB be compressed (i.e., zipped) to ensure message delivery. Responses must be provided as a Microsoft Word (.docx) attachment to the email, and no more than 10 pages in length, 12 point font, 1 inch margins. Only electronic responses will be accepted. The complete RFI document is located at https://eere-exchange.energy.gov/.

FOR FURTHER INFORMATION CONTACT: Question may be addressed to Jian Fu at WindEnergyRFI@ee.doe.gov or (202) 586-9136. Further instruction can be found in the RFI document posted on EERE Exchange.

SUPPLEMENTARY INFORMATION: The purpose of this RFI is to solicit information from electric utilities, academia, research laboratories, government agencies, and other stakeholders on research needs regarding the integration of large-scale offshore wind generation into the transmission grid. The responses will inform WETO's strategic and research planning in the general area of offshore wind and systems integration. WETO is specifically interested in information on: (a) Overall offshore wind systems integration research and development priorities; (b) means to enhance transmission utilization and mitigate congestion; (c) transmission system integration studies and analysis related to offshore wind; and (d) data, models and analytic tools to support offshore wind grid integration. The questions are meant to stimulate thoughts and comments in the identified areas, but may not be exhaustive. As such, responders may offer additional relevant comments in the topic areas even though a question is not specifically asked. The RFI is available at https://eere-exchange.energy.gov/.

Confidential Business Information

Pursuant to 10 CFR 1004.11, any person submitting information that he or she believes to be confidential and exempt by law from public disclosure should submit via email: One copy of the document marked “confidential” including all the information believed to be confidential, and one copy of the document marked “non-confidential” with the information believed to be confidential deleted. DOE will make its own determination about the confidential status of the information and treat it according to its determination.

Signing Authority

This document of the Department of Energy was signed on November 19, 2020, by Robert C. Marlay, Director, Wind Energy Technologies Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 20, 2020.
Treena V. Garrett,
Federal Register Liaison Officer, U.S. Department of Energy.

[FR Doc. 2020-26149 Filed 11-25-20; 8:45 am]

BILLING CODE 6450-01-P